DEPARTMENT OF LABOR

Employment and Training Administration

[TA-W-85,578; A-W-85,578A]

Avery Dennison, Retail Branding and Information Solutions (Rbis) Division, Including On-Site Leased Workers of Adecco, Lenior, North Carolina; Leased Workers of Manpower and Zero Chaos, Working On-Site at Avery Dennison, Retail Branding and Information Solutions (RBIS) Division, Lenior, North Carolina; Notice of Revised Determination on Reconsideration

On November 3, 2014, the Department issued a Notice of Termination of Investigation applicable to workers and former workers of Avery Dennison, Retail Branding and Information Solutions (RBIS) Division, Lenoir, North Carolina (subject firm). The subject firm is engaged in the production of printed fabric labels, heat transfer ribbon, woven edge tape and coated inks. Workers at the subject firm are not separately identifiable by product line.

Workers of the subject firm, including on-site leased workers of Adecco, are eligible to apply for Trade Adjustment Assistance under TA-W-82,139 (which expires on December 5, 2014). The afore-mentioned certification excludes workers separated after December 5, 2014 and excludes on-site leased workers of Manpower and Zero Chaos.

Following the issuance of the afore-mentioned Notice, the Department determined that the termination of investigation was issued error and conducted a reconsideration investigation.

Section 222(a)(1) has been met because a significant number or proportion of the workers in such workers' firm have become totally or partially separated, or are threatened to become totally or partially separated.

Section 222(a)(2)(B) has been met because the employment decline is related to the shift in production of like or directly competitive articles to foreign countries that are a party to a free trade agreement with the United States.

In accordance with Section 246 the Trade Act of 1974, as amended (“Act”), 26 U.S.C. 2813, the Department herein presents the results of its investigation regarding certification of eligibility to apply for alternative trade adjustment assistance (ATAA) for older workers.

The group eligibility requirements for workers of a firm under Section 246(a)(3)(A)(ii) of the Trade Act are satisfied if the following criteria are met:

(I) Whether a significant number of workers in the workers' firm are 50 years of age or older;

(II) Whether the workers in the workers' firm possess skills that are not easily transferable; and

(III) The competitive conditions within the workers' industry (i.e., conditions within the industry are adverse).

Section 246(a)(3)(A)(ii)(I) has been met because a significant number of workers in the workers' firm are 50 years of age or older. Section 246(a)(3)(A)(ii)(II) has been met because the workers in the workers' firm possess skills that are not easily transferrable. Section 246(a)(3)(A)(ii)(III) has been met because conditions within the workers' industry are adverse.

Conclusion

After careful review of the information obtained during the reconsideration investigation, I determine that workers of Avery Dennison, Retail Branding and Information Solutions (RBIS) Division, including on-site leased workers, Lenoir, North Carolina, meet the worker group certification criteria under Section 222(a) of the Act, 19 U.S.C. 2272(a). In accordance with Section 223 of the Act, 19 U.S.C. 2273, I make the following certification:

All workers of Avery Dennison, Retail Branding and Information Solutions (RBIS) Division, including on-site leased workers of Adecco, Lenoir, North Carolina (TA-W-85,578), who became totally or partially separated from employment on or after December 6, 2014 through two years from the date of this certification, and all leased workers of Manpower and Zero Chaos working on-site at Avery Dennison, Retail Branding and Information Solutions (RBIS) Division, Lenoir, North Carolina (TA-W-85,578A), who became totally or partially separated from employment on or after October 7, 2013 through two years from the date of this certification, are eligible to apply for adjustment assistance under Section 223 of the Trade Act of 1974, and are eligible to apply for alternative trade adjustment assistance under Section 246 of the Trade Act of 1974.

Signed at Washington, DC, this 26th day of November, 2014.
Del Min Amy Chen,
Certifying Officer, Office of Trade Adjustment Assistance.

Editorial Note: This document was received for publication by the Office of the Federal Register on May 22, 2015.

[FR Doc. 2015-12881 Filed 5-27-15; 8:45 am]

BILLING CODE 4510-FN-P